DEPARTMENT OF THE DEFENSE

Office of the Secretary

Notice of Intent To Prepare a Programmatic Environmental Impact Statement for the Ballistic Missile Defense System

AGENCY: Missile Defense Agency, Department of Defense.

ACTION: Notice of intent.

SUMMARY: The Missile Defense Agency (MDA) is publishing this notice to announce its intent to prepare a Programmatic Environmental Impact Statement (PEIS) in accordance with the National Environmental Policy Act of 1969 and the Council on Environmental Quality implementing regulations. This PEIS will assess environmental issues associated with the proposed action, foreseeable future actions, and their reasonable alternatives, including the no action alternative, and as appropriate, cumulative effects. This PEIS will support decisions to meet the fundamental objectives of the MDA's mission to test, develop, transfer to deployment, and to plan for decommissioning activities for a Ballistic Missile Defense System to defend the forces and territories of the United States (U.S.), its Allies, and friends against all classes of ballistic missile threats, in all phases of flight.

Scoping: Public scoping meetings will be conducted as a part of the PEIS process to ensure opportunity for all interested government and private organizations, and the general public to identify their issues of concern they believe should be addressed in the content of the PEIS. Schedule and location for the public scoping meetings are:

• April 30, 2003, 6 p.m., Doubletree Hotel, 300 Army Navy Dr., Arlington, VA.

• May 06, 2003, 6 p.m., Sheraton Grand Hotel, 1230 J. St., Sacramento, CA.

• May 08, 2003, 6 p.m., Sheraton Hotel, 401 E. 6th Ave., Anchorage, AK.

• May 13, 2003, 6 p.m., Doubletree Hotel, 1956 Ala Moana Blvd., Honolulu, HI

For those that cannot attend the public scoping meetings, written comments via the U.S. mail, or e-mail are encouraged. Comments should clearly identify and describe the specific issue(s) or topics that the PEIS should address. Comments are welcomed anytime throughout the PEIS process. Formal opportunities for comment and participation include: (1) Public scoping meetings; (2) anytime during the process via mail, telephone, fax, or e-mail; (3) during review, public hearings, and comment on the Draft PEIS; and, (4) review of the Final PEIS. Interested parties may also request to be included on the mailing list for public distribution of the PEIS.

To ensure sufficient time to consider issues identified during the public scoping meeting period, comments should be submitted to one of the addresses listed below no later than June 12, 2003. Additional information regarding the development of the BMDS PEIS is available on the public participation Web site http://www.acq.osd.mil/bmdo.

ADDRESSES: Written comments, statements, and/or questions regarding scoping issues should be addressed to: MDA BMDS PEIS, c/o ICF Consulting, 9300 Lee Highway, Fairfax, VA 22031, Phone (Toll Free) 1-877-MDA-PEIS (1-877-632-7347), Fax (Toll Free) 1-877-851-5451, E-mail bmds.peis@mda.osd.mil, Web site http://www.acq.osd.mil/bmdo.

Dated: April 7, 2003.
L.M. Bynum,
Alternate OSD Federal Register Liaison Officer, Department of Defense.

[FR Doc. 03-8897 Filed 4-10-03; 8:45 am]

BILLING CODE 5001-08-M